COMMITTEE FOR PURCHASE FROM PEOPLE WHO ARE BLIND OR SEVERELY DISABLED

Procurement List, Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products from the Procurement List previously furnished by such agencies.

DATES: Effective Date: 11/29/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 6/19/2009 (74 FR 29187-29189) and 9/10/2010 (75 FR 55309-55310), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8470-00-NSH-0030—Improved Oxygen Harness.

NSN: 8470-00-NSH-0031—Center Mounted Weapon Harness.

NPA: Employment Source, Inc., Fayetteville, NC.

Contracting Activity: Department of the Army Research, Development, & Engineering Command, Natick, MA.

Coverage: C-List for 100% of the requirement of the U.S. Army, as aggregated by the Department of the Army Research, Development, & Engineering Command, Natick, MA.

Drawers, Midweight Cold Weather (Gen III)

NSN: 8415-01-538-8727—Drawers Size Small Regular.

NSN: 8415-01-538-8730—Drawers Size Medium Regular.

NSN: 8415-01-538-8745—Drawers Size Large Regular.

NSN: 8415-01-538-8747—Drawers Size Large Long.

NSN: 8415-01-538-8750—Drawers Size X Large Regular.

NSN: 8415-01-538-8751—Drawers Size X Large Long.

NSN: 8415-01-545-7672—Drawers Size X Small Short.

NSN: 8415-01-545-7676—Drawers Size X Small Regular.

NSN: 8415-01-545-7717—Drawers Size Small Short.

NSN: 8415-01-545-7768—Drawers Size Small Long.

NSN: 8415-01-545-7810—Drawers Size Medium Long.

NSN: 8415-01-545-7960—Drawers Size X Large X Long.

NSN: 8415-01-545-7965—Drawers Size XX Large Regular.

NSN: 8415-01-545-7966—Drawers Size XX Large Long.

NSN: 8415-01-545-7968—Drawers Size XX Large X Long.

NPAs: New Horizons Rehabilitation Services, Inc., Auburn Hills, MI; Peckham Vocational Industries, Inc., Lansing, MI.

Contracting Activity: Defense Logistics Agency Troop Support, Philadelphia, PA

Coverage: C-List for an additional 25% of the requirement of the Department of Defense, as aggregated by the Defense Logistics Agency Troop Support, Philadelphia, PA. Note that 75% of this requirement is already on the PL; this addition will bring the total to 100% of the requirement.

Services

Service Type/Locations: Custodial Service, USARC Mare Island, 1481 Railroad Ave., Vallejo, CA; USARC Hunter Hall, 2600 Castro Rd, San Pablo, CA.

NPA: Solano Diversified Services, Vallejo, CA.

Contracting Activity: Dept of the Army, XR W6BB ACA Presidio of Monterey, Presidio of Monterey, CA.

Service Type/Location: Janitorial Service, Anchorage FAA Tower/TRACON, 5200 West International Airport Road, Anchorage, AK.

NPA: MQC Enterprises, Inc., Anchorage, AK.

Contracting Activity: Dept Of Transportation, Federal Aviation Administration, Northwest/Mountain Reg, Log. Div (ANM-55), Renton, WA.

Service Type/Locations: Warehouse Service, Navy Regional Supply Office Oceana, 983 D Avenue, Virginia Beach, VA; Navy Regional Supply Office, 452 Warehouse Street, Norfolk, VA.

NPA: Professional Contract Services, Inc., Austin, TX.

Contracting Activity: Dept of the Navy, FISC Norfolk, Norfolk, VA.

Deletions

On 8/27/2010 (75 FR 52723-52724) and 9/3/2010 (75 FR 54115), the Committee for Purchase From People Who Are Blind or Severely Disabled published notices of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 7530-00-082-2663—Label, Pressure-Sensitive Adhesive.

NPA: North Central Sight Services, Inc., Williamsport, PA.

Contracting Activity: GSA/FSS OFC SUP CTR—Paper Products, New York, NY.

Specimen Container

NSN: 6550-00-NIB-0009—1/4 turn cap, sterile individually wrapped.

NSN: 6550-00-NIB-0010—1/4 turn cap, sterile.

NSN: 6550-00-NIB-0011—1/4 turn cap, non-sterile.

NSN: 6550-00-NIB-0013—full turn cap, sterile.

NSN: 6550-00-NIB-0019—120 ml, sterile, 300/case.

NSN: 6550-00-NIB-0020—120 ml, non-sterile, 300/case.

NSN: 6550-00-NIB-0021—120 ml, sterile, individually wrapped, 100/case.

NPA: Alphapointe Association for the Blind, Kansas City, MO.

Contracting Activity: Dept of Veterans Affairs, NAC, Hines, IL.

Barry S. Lineback,
Director, Business Operations.

[FR Doc. 2010-27409 Filed 10-28-10; 8:45 am]

BILLING CODE 6353-01-P